LEGAL SERVICES CORPORATION

Sunshine Act Meetings

TIME AND DATE: The Legal Services Corporation (LSC) Board of Directors and its Audit and Finance committees will hold their fall 2024 quarterly business meeting October 28-29, 2024. On Monday, October 28, the first meeting will begin at 9:00 a.m. ET, with the next meeting commencing at 12:30 p.m. ET. On Tuesday, October 29, the first meeting will begin at 8:30 a.m. ET, with the next meeting commencing promptly upon adjournment of the immediately preceding meeting.

PLACE: Public Notice of Hybrid Meeting.

LSC will conduct its October 28-29, 2024 meetings at the State Bar of Georgia Conference Center, 104 Marietta Street NW, Suite 100, Atlanta, GA 30303, and virtually via Zoom.

Public Observation: Unless otherwise noted herein, the Board and all committee meetings will be open to public observation. Members of the public who wish to participate virtually in the public proceedings may do so by following the directions provided below.

Directions for Open Sessions

Monday, October 28, 2024

• To join the Zoom meeting by computer, please use this link.

○ https://lsc-gov.zoom.us/j/89157264167?pwd=F4bAVwfs6sBMvmcb2fqg5coCJATKwG.1&from=addon

○ Meeting ID: 891 5726 4167

○ Passcode: 102824

Tuesday, October 29, 2024

• To join the Zoom meeting by computer, please use this link.

○ https://lsc-gov.zoom.us/j/88396199799?pwd=uyxthqpvn5ocgpxexn6jp108fun3ub.1&from=addon

○ Meeting ID: 883 9619 9799

○ Passcode: 102924

○ If calling from outside the U.S., find your local number here: https://lsc-gov.zoom.us/u/acCVpRj1FD

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Audit Committee—Open, except that, upon a vote of the Board of Directors, the meeting may be closed to the public to receive a briefing by the Office of Compliance and Enforcement on active enforcement matter(s) and follow up on open investigation referrals to and from the Office of Inspector General (ACC § VIII A (5)); receive briefings by LSC Management regarding the status of the TN-4 Service Area; and receive briefings on significant grantee oversight activities.

Board of Directors—Open, except that, upon a vote of the Board of Directors, a portion of the meeting may be closed to the public to receive briefings from Management and the Inspector General; to receive the General Counsel's Report on outside counsel expenditures; to consider and act on the General Counsel's Report on potential and pending litigation involving LSC; and to consider and act on a list of prospective Leaders Council and Emerging Leaders Council members.

Any portion of the closed session consisting solely of briefings does not fall within the Sunshine Act's definition of the term “meeting” and, therefore, the requirements of the Sunshine Act do not apply to such portion of the closed session.¹

¹ 5 U.S.C. 552b (a) (2) and (b). See also 45 CFR 1622.2 & 1622.3.

A verbatim written transcript will be made of the closed sessions of the Audit and the Board of Directors meetings. The transcript of any portions of the closed sessions falling within the relevant provisions of the Government in the Sunshine Act, 5 U.S.C. 552b(c)(6), (7), (9) and (10), will not be available for public inspection. A copy of the General Counsel's certification that, in his opinion, the closing is authorized by law will be available upon request.

MATTERS TO BE CONSIDERED:

Meeting Schedule

Monday, October 28, 2024

Start Time 9:00 a.m. ET

Audit Committee

Open to the Public

1. Approval of Agenda

2. Approval of Minutes of the Committee's Open Session Meeting on July 22, 2024

3. Update on reassessment of the Committee's Charter (Audit Committee Charter (ACC) § D (2))

4. Update on selection of external auditor and the scope and plan for LSC's forthcoming required annual financial statement audit (ACC §§ VII (1) and VIII A (1))

5. Briefing by the Office of Inspector General (ACC § VIII A (3) and (ACC § VIII A (4)), to include:

a. Update on key activities and accomplishments over the last quarter, and overview of plans and key priorities for the next quarter,

b. Highlights of recently completed audit work, open recommendations as reported in the latest Semi-Annual Report to Congress, ongoing work, and plans for the next quarter, and

c. Highlights of recently completed investigative work, ongoing work, and plans for the next quarter.

6. Review LSC's efforts, including training and education, to help ensure that LSC employees and grantees act ethically and safeguard LSC Funds (ACC § VIII C (6))

7. Management Update Regarding Risk Management

8. Briefing by the Office of Compliance and Enforcement on referrals by the Office of Inspector General regarding Audit Reports and Annual Financial Statement Audits of Grantees (ACC § VIII A (5))

9. Public Comment

10. Consider and Act on Other Business

11. Consider and Act on Motion to Adjourn the Open Session Meeting and Proceed to a Closed Session Meeting

Portions Closed to the Public

12. Approval of Minutes of the Committee's Closed Session Meeting on July 22, 2024

13. Briefing by the Office of Compliance and Enforcement on active enforcement matter(s) and follow-up on open investigation referrals to and from the Office of Inspector General (ACC § VIII A (5))

14. Briefing by LSC Management Regarding Status of TN-4 Service Area

15. Briefing by LSC Management Regarding Significant Grantee Oversight Activities

16. Consider and Act on Motion to Adjourn the Meeting

Monday, October 28, 2024

Start Time 12:30 p.m. ET

Finance Committee

Open to the Public

1. Approval of Agenda

2. Approval of the Minutes of the Finance Committee's Open Session Meeting on July 11, 2024

3. Approval of the Minutes of the Finance Committee's Open Session Meeting on July 22, 2024

4. Approval of the Minutes of the Finance Committee's Closed Session Meeting on July 22, 2024

5. Approval of the Minutes of the Finance Committee's Closed Session Meeting on September 23, 2024

6. Presentation of LSC's Preliminary Financial Results for Fiscal Year 2024

7. Report on status of Fiscal Year 2025 Appropriation and Disaster Supplemental Request

8. Presentation of Fiscal Year 2025 Management and Grants Oversight Budget

9. Consider and Act on Resolution #2024-XXX: Temporary Operating Budget and Special Circumstance Operating Authority for Fiscal Year 2025

10. Update on Fiscal Year 2026 Budget Request

11. Public Comment

12. Consider and Act on Other Business

13. Consider and Act on Motion to Adjourn the Meeting

Tuesday, October 29, 2024

Start Time 8:30 a.m. ET

Board of Directors

Open to the Public

1. Pledge of Allegiance

2. Approval of Agenda

3. Announcement of Results of Recent Notational Votes

a. Resolution #2024-007: Ratifying the Collective Bargaining Agreement through 2028

b. Resolution #2024-008: Authorization to Enter into Line of Credit Agreement (FY 2024)

4. Approval of Minutes of the Board's Open Session Meeting on July 24, 2024

5. Consider and Act on Resolution #2024-XXX: In Memoriam of Phyllis J. Holmen

6. Chairman's Report

7. Members' Reports

8. President's Report

9. Briefing on LSC's Office Relocation

10. Briefing on Grantee Activity Reports

11. Inspector General's Report

12. Consider and Act on the Report of the Delivery of Legal Services Committee (Meeting held October 7)

13. Consider and Act on the Report of the Operations and Regulations Committee (Meeting held October 7)

14. Consider and Act on the Report of the Governance and Performance Review Committee (Meeting held October 8)

15. Consider and Act on the Report of the Institutional Advancement Committee (Meeting held October 15) and Communications Subcommittee (Meeting held October 7)

16. Consider and Act on the Report of the Audit Committee

17. Consider and Act on the Report of the Finance Committee

a. Consider and Act on Resolution #2024-XXX: Temporary Operating Budget and Special Circumstance Operating Authority for Fiscal Year 2025

18. Public Comment

19. Consider and Act on Other Business

20. Consider and Act on Whether to Authorize a Closed Session of the Board to Address Items Listed Below

Portions Closed to the Public

21. Approval of Minutes of the Board's Closed Session Meeting on July 24, 2024

22. Management Briefing

23. Inspector General's Briefing

24. General Counsel's Report on Outside Counsel Expenditures and Litigation Report

25. Consider and Act on General Counsel's Report on Potential and Pending Litigation Involving Legal Services Corporation

26. Consider and Act on List of Prospective Leaders Council and Emerging Leaders Council Invitees

27. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: October 16, 2024.
Stefanie Davis,
Deputy General Counsel, Legal Services Corporation.

[FR Doc. 2024-24380 Filed 10-17-24; 11:15 am]

BILLING CODE 7050-01-P